DEPARTMENT OF TRANSPORTATION

Office of the Secretary

[Docket OST-2006-26230]

Disadvantaged Business Enterprise

AGENCY: Office of the Secretary, DOT.

ACTION: Notice and request for comments.

SUMMARY: In accordance with the Paperwork Reduction Act of 1995 (44 U.S.C. Chapter 35, as amended) this notice announces the Department of Transportation's (DOT) intention to request extension for a currently approved information collection.

DATES: Comments on this notice must be received by January 2, 2007.

ADDRESSES: To ensure that you do not duplicate your docket submissions, please submit them by only one of the following means to Docket OST-2006-26230:

(1) By mail to the Docket Management Facility (SVC-124), U.S. Department of Transportation, Room PL-401, 400 Seventh Street SW., Washington, DC 20590-0001. [It is important to note that because of current security procedures affecting the U.S. Mail, other means (e.g., FedEx, UPS) may be faster];

(2) By delivery to room PL-401 on the Plaza Level of the Nassif Building, 400 Seventh Street SW., Washington, DC, between 9 a.m. and 5 p.m., Monday through Friday, except Federal holidays. The telephone number is 202-366-9329.

(3) By fax to the Docket Management Facility at 202-493-2251; or

(4) By electronic means through the Web site for the Docket Management System at: http://dms.dot.gov.

The Docket Management Facility maintains the public docket for this rulemaking. Comments to the docket will be available for inspection or copying at room PL-401 on the Plaza Level of the Nassif Building, 400 Seventh Street, SW., Washington, DC, between 9 a.m. and 5 p.m., Monday through Friday, except Federal holidays. The public may also review docketed comments electronically at: http://dms.dot.gov.

FOR FURTHER INFORMATION CONTACT: Mr. Robert C. Ashby, Office of the Secretary, Office of Assistant General Counsel for Regulation and Enforcement, Department of Transportation, 400 Seventh St., SW., Washington, DC 20590 (202)366-9310 (voice) 202-366-9313 (fax) or at bob.ashby@ost.dot.gov.

SUPPLEMENTARY INFORMATION: Title: Report of DBE Awards and Commitments.

OMB Control Number: 2105-0510.

Type of Request: Extension to a currently approved information collection.

Abstract: 49 CFR part 26 establishes requirements for the Department of Transportation (DOT) so as to comply with the mandate by statute including 1101 (b) of the Safe, Accountable, Flexible, Efficient Transportation Equity Act: A Legacy For Users (Pub. L. 109-59 and 49 U.S.C. 47113, Pub. L. 105-178. The key part of the collection is a requirement that state and local governments subject to the DBE program report to the Secretary of Transportation on DBE participation, as well as maintain a directory of DBE firms and report to the Secretary concerning the composition of the directory. If these reporting requirements were not available, firms controlled by minorities would not achieve the appropriate participation in DOT programs, and the Department would not be able to identify its recipients and evaluate the extent to which financial assistance recipients have been awarded a reasonable amount of contracting dollars to DBEs.

In order to minimize the burden on DOT recipients the Department has limited its informational request and reporting frequency to that necessary to meet its program and administrative monitoring requirements. The information request consists of 17 data items on one page and one attachment, to be completed on a semi-annual basis (for FHWA and FTA programs) or an annual basis (for FAA programs).

Respondents: DOT financially-assisted state and local transportation agencies.

Estimated Number of Respondents: 1,057.

Estimated Total Burden on Respondents: 1,311,000.

The information collection is available for inspection in the DOT Dockets Management System (DMS), 400 Seventh St., Washington, DC 20590 (202)366-9310.

Comments are Invited on: (a) Whether the collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

All responses to this notice will be summarized and included in the request for OMB approval. All comments will also become a matter of public record.

Issued in Washington, DC on October 27, 2006.
Robert C. Ashby,
Deputy Assistant General Counsel for Regulation and Enforcement.

[FR Doc. E6-18475 Filed 11-1-06; 8:45 am]

BILLING CODE 4910-9X-P